DEPARTMENT OF THE INTERIOR

Bureau of Land Management

[LLWY921000, L14300000.ET0000; WYW 167436]

Public Land Order No. 7790; Withdrawal of Public Lands for the Parting of the Ways National Historic Site; Wyoming

AGENCY: Bureau of Land Management, Interior.

ACTION: Public land order.

SUMMARY: This order withdraws 40 acres of public land from settlement, sale, location, and entry under the general land laws, including the United States mining laws, for a period of 20 years to protect The Parting of the Ways National Historic Site. The land has been and will remain open to mineral leasing.

DATES: Effective Date: June 5, 2012.

FOR FURTHER INFORMATION CONTACT: Diane Schurman, Realty Specialist, Bureau of Land Management (BLM), Wyoming State Office, 5353 N. Yellowstone Road, Cheyenne, Wyoming 82009, 307-775-6189 or via email at dschurma@blm.gov. Persons who use a telecommunications device for the deaf (TDD) may call the Federal Information Relay Service (FIRS) at 1-800-877-8339 to contact the above individual. The FIRS is available 24 hours per day, 7 days per week, to leave a message or question with the above individual. You will receive a reply during normal business hours.

SUPPLEMENTARY INFORMATION: The BLM manages the land to protect the nationally significant historic site. The historic site has pristine integrity, both in terms of physical trail remains and environmental setting, and is listed on the National Register of Historic Places. The Parting of the Ways National Historic Site is an historic fork in the Emigrant Trail (Oregon Trail, Mormon-Pioneer Trail, California Trail, and the Pony Express Trail) where emigrants had to decide whether to stay on the main route and head southwest towards Fort Bridger or veer right and cross some 50 waterless miles, known as the Sublette Cutoff.

Order

By virtue of the authority vested in the Secretary of the Interior by Section 204 of the Federal Land Policy and Management Act of 1976, 43 U.S.C. 1714, it is ordered as follows:

1. Subject to valid existing rights, the following-described public land is hereby withdrawn from settlement, sale, location, and entry under the general land laws, including the United States mining laws (30 U.S.C. Ch. 2), but not from leasing under the mineral leasing laws, to protect The Parting of the Ways National Historic Site:

Sixth Principal Meridian

T. 26 N., R. 104 W.,

Sec. 4, E½SE¼NW¼ and W½SW¼NE¼.

The area described contains 40 acres in Sweetwater County.

2. The withdrawal made by this order does not alter the applicability of those public land laws governing the use of lands under lease, license, or permit, or governing the disposal of the mineral or vegetative resources other than under the mining laws.

3. This withdrawal will expire 20 years from the effective date of this order, unless, as a result of a review conducted before the expiration date pursuant to Section 204(f) of the Federal Land Policy and Management Act of 1976, 43 U.S.C. 1714(f), the Secretary determines that the withdrawal shall be extended.

Authority: 43 CFR 2310.3-3.

Dated: May 22, 2012.
Rhea S. Suh,
Assistant Secretary—Policy, Management and Budget.

[FR Doc. 2012-13601 Filed 6-4-12; 8:45 am]

BILLING CODE 4310-22-P